SECURITIES AND EXCHANGE COMMISSION

[File No. 500-1]

Advance Nanotech, Inc., Advanced ID Corp., Aeon Holdings, Inc. (n/k/a BCM Energy Partners, Inc.), ANTS Software, Inc., Beauty Brands Group, Inc., Beijing Century Health Medical, Inc., Chocolate Candy Creations, Inc., Crystallex International Corp., Dermaxar, Inc., Dragon International Group Corp., e-SIM, Ltd., EcoReady Corp., EnDevCo, Inc., Electronic Kourseware International, Inc., Ensign Services, Inc., and eTelCharge.com, Inc.; Order of Suspension of Trading

February 6, 2013.

It appears to the Securities and Exchange Commission that there is a lack of current and accurate information concerning the securities of Advanced Nanotech, Inc. because it has not filed any periodic reports since the period ended September 30, 2010.

It appears to the Securities and Exchange Commission that there is a lack of current and accurate information concerning the securities of Advanced ID Corp. because it has not filed any periodic reports since the period ended September 30, 2009.

It appears to the Securities and Exchange Commission that there is a lack of current and accurate information concerning the securities of Aeon Holdings, Inc. (n/k/a BCM Energy Partners, Inc.) because it has not filed any periodic reports since the period ended March 31, 2001.

It appears to the Securities and Exchange Commission that there is a lack of current and accurate information concerning the securities of ANTS Software, Inc. because it has not filed any periodic reports since the period ended March 31, 2011.

It appears to the Securities and Exchange Commission that there is a lack of current and accurate information concerning the securities of Beauty Brands Group, Inc. because it has not filed any periodic reports since the period ended September 30, 2010.

It appears to the Securities and Exchange Commission that there is a lack of current and accurate information concerning the securities of Beijing Century Health Medical, Inc. because it has not filed any periodic reports since the period ended February 28, 2011.

It appears to the Securities and Exchange Commission that there is a lack of current and accurate information concerning the securities of Chocolate Candy Creations, Inc. because it has not filed any periodic reports since the period ended March 31, 2011.

It appears to the Securities and Exchange Commission that there is a lack of current and accurate information concerning the securities of Crystallex International Corp. because it has not filed any periodic reports since the period ended December 31, 2010.

It appears to the Securities and Exchange Commission that there is a lack of current and accurate information concerning the securities of Dermaxar, Inc. because it has not filed any periodic reports since the period ended January 31, 2010.

It appears to the Securities and Exchange Commission that there is a lack of current and accurate information concerning the securities of Dragon International Group Corp. because it has not filed any periodic reports since the period ended March 31, 2009.

It appears to the Securities and Exchange Commission that there is a lack of current and accurate information concerning the securities of e-SIM, Ltd. because it has not filed any periodic reports since the period ended January 31, 2007.

It appears to the Securities and Exchange Commission that there is a lack of current and accurate information concerning the securities of EcoReady Corp. because it has not filed any periodic reports since the period ended September 30, 2010.

It appears to the Securities and Exchange Commission that there is a lack of current and accurate information concerning the securities of EnDevCo, Inc. because it has not filed any periodic reports since the period ended March 31, 2010.

It appears to the Securities and Exchange Commission that there is a lack of current and accurate information concerning the securities of Electronic Kourseware International, Inc. because it has not filed any periodic reports since it filed an amended registration statement on March 23, 2009.

It appears to the Securities and Exchange Commission that there is a lack of current and accurate information concerning the securities of Ensign Services, Inc. because it has not filed any periodic reports since the period ended March 31, 2010.

It appears to the Securities and Exchange Commission that there is a lack of current and accurate information concerning the securities of eTelCharge.com, Inc. because it has not filed any periodic reports since the period ended September 30, 2009.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on February 6, 2013, through 11:59 p.m. EST on February 20, 2013.

By the Commission.
Jill M. Peterson,
Assistant Secretary.

[FR Doc. 2013-02980 Filed 2-6-13; 11:15 am]

BILLING CODE 8011-01-P